DEPARTMENT OF DEFENSE

Department of the Air Force

[USAF-2008-0003]

Privacy Act of 1974; System of Records

AGENCY: Department of the Air Force, DoD.

ACTION: Notice to Add a System of Records Notice.

SUMMARY: The Department of the Air Force proposes to add a system of records notice to its inventory of records systems subject to the Privacy Act of 1974 (5 U.S.C. 552a), as amended.

DATES: The actions will be effective on March 24, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Ms. Novella Hill at (703) 696-6518.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on February 13, 2008, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 14, 2008.
L.M. Bynum,
Alternate Federal Register Liaison Officer, Department of Defense.

FO36 AETC W

System name:

Air Force Institute of Technology Management and Information System (AFITMIS).

System location:

Air Force Institute of Technology (AFIT), AFIT Communications and Information Directorate, 2950 Hobson Way, Wright-Patterson Air Force Base, OH 45433-7765.

Categories of individuals covered by the system:

Faculty, staff, graduates, and students currently or previously enrolled in Air Force Institute of Technology (AFIT).

Categories of records in the system:

Name; address; telephone numbers (work, home, cell); Social Security Numbers (SSN); birth date; citizenship; e-Mail address; grades; and Foreign identification numbers and other documents associated with academics.

Authority for maintenance of the system:

5 U.S.C 301, Departmental Regulations 10 U.S.C. 8013, Secretary of the Air Force; Air Force Instruction 36-2201, Air Force Training Program; Air Force Instruction 36-2301, Professional Military Education; and E.O. 9397(SSN).

Purpose(s):

To support the core functions for resident graduate education, management of students in civilian institution programs, and course management for civil engineering education programs. This system will provide faculty and staff one central repository for information on assigned individuals and students that provides up-to-date and streamlined educational data.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The Department of Defense “Blanket Routine Uses” published at the beginning of the Air Force's compilation of systems of records notices apply to this system.

Policies and practices for storing, retrieving, accessing, retaining, and disposing of records in the system:

Storage:

Electronic storage media.

Retrievability:

Name and/or Social Security Number (SSN).

Safeguards:

Records are accessed by custodian of the record system and by person(s) responsible for servicing the record system in performance of their official duties and who are properly screened and cleared for need-to-know. Additionally, records access is controlled by user profiles. Profiles/role control will ensure that only the data that should be accessible to that individual will appear on the screen.

Retention and disposal:

Destroy 30 years after individual completes or discontinues a training course. Computer records are destroyed by erasing, deleting or overwriting. Paper records are destroyed by shredding.

System manager(s) and address:

Director, Communications and Information Directorate, Air Force Institute of Technology, 2950 Hobson Way, Wright-Patterson Air Force Base, OH 45433-7765.

Notification procedure:

Individuals seeking to determine whether information about themselves is contained in this system should address written inquiries to or visit the Communications and Information Directorate, Air Force Institute of Technology, 2950 Hobson Way, Wright-Patterson Air Force Base, OH 45433-7765.

Include full name and Social Security Number. Individuals may visit Communications and Information Directorate Monday through Friday between the hours of 8 a.m. and 4 p.m. Identification is required.

Record access procedures:

Individuals seeking access to information about themselves contained in this system should address written inquiries to or visit the Communications and Information Directorate, Air Force Institute of Technology, 2950 Hobson Way, Wright-Patterson Air Force Base, OH 45433-7765.

Include full name and Social Security Number (SSN). Individuals may visit Office of the Communications and Information Directorate Monday through Friday between the hours of 8 a.m. and 4 p.m. Identification is required.

Contesting record procedures:

The Air Force rules for accessing records, and for contesting contents and appealing initial agency determinations are published in Air Force Instruction 33-332; 32 CFR Part 806b; or may be obtained from the system manager.

Record source categories:

Individuals; educational institutions, reports, testing agencies, and on-the-job training officials.

Exemptions claimed for the system:

None.

[FR Doc. E8-3209 Filed 2-20-08; 8:45 am]

BILLING CODE 5001-06-P